DEPARTMENT OF THE INTERIOR

National Park Service

60-Day Notice of Intention To Request Clearance of Collection of Information: Opportunity for Public Comment

AGENCY: Department of the Interior, National Park Service.

ACTION: Notice and request for comments.

SUMMARY: Under the provisions of the Paperwork Reduction Act of 1995 and 5 CFR part 1320, Reporting and Recordkeeping Requirements, the National Park Service (NPS) invites public comments on an extension of a currently approved collection of information (OMB #1024-0018).

DATES: Public comments on this Information Collection Request (ICR) will be accepted on or before September 9, 2008.

ADDRESSES: Send comments to Paul Loether, Chief, National Register of Historic Places and National Historic Landmarks Program, 1201 Eye Street, NW. (2280), 8th Floor, Washington, DC 20005; or via phone at 202/354-2003; or via fax at 202/371-2229; or via e-mail at Paul_Loetber@nps.gov. Also, you may send comments to Leonard E. Stowe, NPS Information Collection Clearance Officer, 1849 C St., NW. (2605), Washington, DC 20240; or via e-mail at leonard_stowe@nps.gov. All responses to this Notice will be summarized and included in the request for the Office of Management and Budget (OMB) approval. All comments will become a matter of public record.

To Request a Draft of Proposed Collection of Information Contact: Lisa Deline, NPS Historian, National Register of Historic Places, 1201 Eye St., NW. (2280), Washington, DC 20005; or via phone at 202/354-2239; or via fax at 202/371-2229; or via e-mail at 3lisa_deline@nps.gov.

FOR FURTHER INFORMATION CONTACT: Lisa Deline, NPS Historian, National Register of Historic Places, 1201 Eye St., NW. (2280), Floor, Washington, DC 20005; or via phone at 202/354-2239; or via fax at 202/371-2229; or via e-mail at lisa_deline@nps.pov. You are entitled to a copy of the entire ICR package free of charge once the package is submitted to OMB for review. You can access this ICR at http://www.reginfo.gov/public/.

SUPPLEMENTARY INFORMATION: Title: 36 CFR 60 and 63: National Register of Historic Places Registration Form; Continuation Sheet; National Register Multiple Property Documentation Form.

Form(s): NPS 10-900 (registration form), 10-900-a (continuation sheet), 10-900-b (multiple property documentation form).

OMB Control Number: 1024-0018.

Expiration Date: 01/31/2009.

Type of Request: Extension of a currently approved collection of information.

Description of Need: The National Historic Preservation Act of 1966 requires the Secretary of the Interior to maintain and expand the National Register of Historic Places, and to establish criteria and guidelines for including properties in the National Register. The National Register of Historic Places Registration Form documents properties nominated for listing in the National Register and demonstrates that they meet the criteria established for inclusion. The documentation is used to assist in preserving and protecting the properties and for heritage education and interpretation. National Register properties must be considered in the planning for federal or federally assisted projects. National Register listing is required for eligibility for the federal rehabilitation tax incentives. The primary purpose of the ICR is to nominate properties for listing in the National Register of Historic Places, the official list of the nation's cultural resources worthy of preservation, which Public Law requires that the Secretary of the Interior maintain and expand. Properties are listed in the National Register upon nomination by State, Federal and Tribal Historic Preservations Officers. The National Register of Historic Places Registration Form documents properties nominated for listing in the National Register and demonstrates that they meet the criteria established for inclusion. The documentation is used to assist in preserving and protecting the properties and for heritage education in interpretation. National Register properties and those eligible for listing must be considered in the planning for Federal or federally assisted projects, and National Register listing is required for eligibility for the Federal Rehabilitation Tax incentives. The forms provide the historic documentation on which decisions for listing and eligibility are based. The obligation to respond is required to obtain or retain benefits.

Description of respondents: The affected public are State, tribal, and local governments, businesses, non-profit organizations, and individuals. Nominations to the National Register of Historic Places are voluntary.

Estimated average number of respondents: 1,513.

Estimated average number of responses: 1,513.

Estimated average time burden per respondent: Depending on which form is used, the average burden per response may very considerably because of many complex factors. In general, to fulfill minimum program requirements describing the nominated property and demonstrating its eligibility under the criteria, the average burden hours range from 18 hours for a nomination proposed under an existing Multiple Property Submission (MPS), to 36 hours for a new proposed individual nomination, to 120 hours for a newly proposed MPS. Continuation Sheets (10-900-a) are used as space for additional information for both the individual nomination form and the multiple property form, as needed. As such the calculation of burden hours per response for the continuation sheet has been included in the above average calculations for the National Register of Historic Places Registration Form (10-900), and the National Register Multiple Property Documentation Form (10-900-b).

Frequency of response: Once per respondent.

Estimated total annual reporting burden: 52,824 hours broken down as follows: 196 nominations submitted under existing MPS @ 18 hrs. each = 3,528 hours; 1,186 newly proposed individual nominations @ 36 hrs. each = 42,696 hours; 55 new proposed MPS @ 120 hrs. each = 6,600 hours.

Comments are invited on: (1) the practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: July 2, 2008.
Leonard E. Stowe,
NPS, Information Collection Clearance Officer.

[FR Doc. E8-15590 Filed 7-10-08; 8:45 am]

BILLING CODE 4312-51-M